DEPARTMENT OF TRANSPORTATION

Federal Aviation Administration

14 CFR Part 39

[Docket No. 2001-NM-110-AD]

RIN 2120-AA64

Airworthiness Directives; Saab Model SAAB SF340A and SAAB 340B Series Airplanes

AGENCY: Federal Aviation Administration, DOT.

ACTION: Proposed rule; withdrawal.

SUMMARY: This action withdraws a notice of proposed rulemaking (NPRM) that proposed a new airworthiness directive (AD), applicable to all Saab Model SAAB SF340A and SAAB 340B series airplanes. That action would have required modifying or replacing flight data recorders (FDR) of a certain model. Since the issuance of the NPRM, the Federal Aviation Administration (FAA) has received new data that the identified unsafe condition has been corrected on all airplanes that would have been subject to the NPRM. Accordingly, the proposed rule is withdrawn.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION: A proposal to amend part 39 of the Federal Aviation Regulations (14 CFR part 39) to add a new airworthiness directive (AD), applicable to all Saab Model SAAB SF340A and SAAB 340B series airplanes, was published in the Federal Register as a Notice of Proposed Rulemaking (NPRM) on August 17, 2001 (66 FR 43128). The proposed rule would have required modifying or replacing flight data recorders (FDR) of a certain model. That action resulted from reports of a number of incidents in which flight data have been lost from the FDR.

The proposed actions were intended to prevent loss of flight data from the FDR, which could hamper discovery of the cause of an accident, preventing the Federal Aviation Administration from developing and mandating actions to prevent additional accidents caused by the same unsafe condition.

Actions That Occurred Since the NPRM Was Issued

Since the issuance of that NPRM, the FDR manufacturer, L-3 Communications Corporation, notified the FAA that the only affected operator flying in the U.S. has accomplished the action proposed in the NPRM, and no unsafe condition exists or is likely to exist. In the event that a Saab Model SAAB-Fairchild SF340A (SAAB/SF340A), or SAAB 340B airplane is imported into the U.S., the FAA issued a Special Airworthiness Information Bulletin (NM-06-40, April 14, 2006) to alert U.S. operators of the need to install the replacement FDR.

Explanation of Change to Model Designation

We have revised the model reference in the above paragraph to identify model designations as published in the most recent type certificate data sheet for the affected models.

FAA's Conclusions

Upon further consideration, the FAA has determined that the actions that would have been required by the NPRM have already been done on all affected airplanes, and the identified unsafe condition has been corrected. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2001-NM-110-AD, published in the Federal Register on August 17, 2001 (66 FR 43128), is withdrawn.

Issued in Renton, Washington, on May 26, 2006.
Ali Bahrami,
Manager, Transport Airplane Directorate, Aircraft Certification Service.

[FR Doc. E6-8710 Filed 6-5-06; 8:45 am]

BILLING CODE 4910-13-P